NATIONAL SCIENCE FOUNDATION

Business and Operations Advisory Committee; Notice of Meeting

In accordance with the Federal Advisory Committee Act (Pub. L. 92-463, as amended), the National Science Foundation (NSF) announces the following meeting:

Name and Committee Code: Business and Operations Advisory Committee (9556) (Virtual).

Date and Time: June 29, 2020; 1:00 p.m. to 5:30 p.m. (EST).

Place: National Science Foundation, 2415 Eisenhower Avenue, Alexandria, Virginia, 22314 (virtual attendance only). To attend the virtual meeting, please send your request for the virtual meeting link to the following email address: beason@nsf.gov.

Type of Meeting: Open.

Contact Person: Patty Balanga, National Science Foundation, 2415 Eisenhower Avenue, Alexandria, VA, 22314; (703) 292-8100.

Purpose of Meeting: To provide advice concerning issues related to the oversight, integrity, development, and enhancement of NSF's business operations.

Agenda:

• Welcome/Introductions

• BFA, OIRM, Budget Updates

• Understanding the Top Five Impacts of the COVID-19 Pandemic on the National Research Community and the NSF Response

• Enterprise Risk Management in the COVID-19 Environment

• Meeting with Dr. Droegemeier and Dr. Crim

Dated: June 3, 2020.
Crystal Robinson,
Committee Management Officer.

[FR Doc. 2020-12322 Filed 6-5-20; 8:45 am]

BILLING CODE 7555-01-P